DEPARTMENT OF JUSTICE

Notice of Lodging of Proposed Consent Decree Under the Emergency Planning and Community Right-to-Know Act, the Comprehensive Environmental Response, Compensation, and Liability Act, and the Clean Air Act

On June 24, 2019, the Department of Justice lodged a proposed Consent Decree with the United States District Court for the District of Oregon, Portland Division, in the lawsuit entitled United States of America v. Dyno Nobel, Inc., Civil Action No. 3:19-cv-00984.

The Complaint initiating this matter seeks injunctive relief and civil penalties for alleged violations of the Emergency Planning and Community Right-to-Know Act, 42 U.S.C. 11004 and 11023, the Comprehensive Environmental Response, Compensation and Liability Act, 42 U.S.C. 9603, and the Clean Air Act, 42 U.S.C. 7412(r), and regulations promulgated thereunder at an ammonia plant owned and operated by Dyno Nobel, Inc., (“Dyno Nobel”) in St. Helens, Oregon. More specifically, the Complaint alleges that Dyno Nobel violated the release reporting requirements of the Comprehensive Environmental Response, Compensation and Liability Act and the Emergency Planning and Community Right-to-Know Act (“EPCRA”) in connection with two releases of anhydrous ammonia, violated EPCRA by failing to accurately report annual point source releases in its Toxic Release Inventory filings, and violated multiple provisions of the Clean Air Act's Risk Management Program requirements.

Under the proposed Consent Decree, Dyno Nobel has agreed to pay a civil penalty to the United States, to file corrected Toxic Release Inventory reports, to comply with applicable reporting requirements and all applicable Risk Management Program requirements, retain a third-party auditor to audit its compliance with the foregoing requirements, and perform a Supplemental Environmental Project where Dyno will purchase specified emergency response equipment for identified local emergency response organizations.

The publication of this notice opens a period for public comment on the Consent Decree. Comments should be addressed to the Assistant Attorney General, Environment and Natural Resources Division, and should refer to United States of America v. Dyno Nobel, Inc., D.J. Ref. No. 90-5-2-1-09238/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $10.50 (25 cents per page reproduction cost) payable to the United States Treasury.

Susan M. Akers,
Assistant Section Chief, Environmental Enforcement Section, Environment and Natural Resources Division.

[FR Doc. 2019-13875 Filed 6-27-19; 8:45 am]

BILLING CODE 4410-15-P